DEPARTMENT OF TRANSPORTATION

Federal Aviation Administration

14 CFR Part 39

[Docket No. 2002-NM-256-AD; Amendment 39-13570; AD 2004-08-01]

RIN 2120-AA64

Airworthiness Directives; Fokker Model F.28 Mark 0070 and 0100 Series Airplanes

AGENCY: Federal Aviation Administration, DOT.

ACTION: Final rule.

SUMMARY: This amendment adopts a new airworthiness directive (AD), applicable to certain Fokker Model F.28 Mark 0070 and 0100 series airplanes, that requires a magnetic inspection of the sliding members of the main landing gear (MLG) for cracking, and replacement of the sliding members with serviceable parts, if necessary. This action is necessary to prevent fatigue cracking of the sliding member, which could result in possible separation of the MLG from the airplane and consequent reduced controllability of the airplane upon landing and possible injury to passengers. This action is intended to address the identified unsafe condition.

DATES: Effective May 19, 2004.

The incorporation by reference of certain publications listed in the regulations is approved by the Director of the Federal Register as of May 19, 2004.

ADDRESSES: The service information referenced in this AD may be obtained from Fokker Services B.V., P.O. Box 231, 2150 AE Nieuw-Vennep, the Netherlands. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Thomas Rodriguez, Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) to include an airworthiness directive (AD) that is applicable to certain Fokker Model F.28 Mark 0070 and 0100 series airplanes was published in the Federal Register on January 22, 2004 (69 FR 3039). That action proposed to require a magnetic inspection of the sliding members in the main landing gear (MLG) for cracking, and replacement of the sliding members with serviceable parts, if necessary.

Comments

Interested persons have been afforded an opportunity to participate in the making of this amendment. No comments were submitted in response to the proposal or the FAA's determination of the cost to the public.

Explanation of Interim Action

We consider this AD interim action. If final action is later identified, we may consider further rulemaking then. The statement identifying this AD as interim action was inadvertently omitted from the proposal.

Conclusion

After careful review of the available data the FAA has determined that air safety and the public interest require the adoption of the rule with the change previously described. The FAA has determined that this change will neither increase the economic burden on any operator nor increase the scope of the AD.

Cost Impact

The FAA estimates that 110 airplanes of U.S. registry will be affected by this AD, that it will take approximately 4 or 12 work hours per airplane, depending on the airplane configuration, to accomplish the required inspection, and that the average labor rate is $65 per work hour. Based on these figures, the cost impact of the AD on U.S. operators is estimated to be $28,600 or $85,800, or $260 or $780 per airplane, depending on the airplane configuration.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-08-01 Fokker Services B.V.: Amendment 39-13570. Docket 2002-NM-256-AD.

Applicability: Model F.28 Mark 0070 and 0100 series airplanes, certificated in any category, equipped with any Dowty or Messier-Dowty main landing gear (MLG) listed in Table 1 of this AD.

Table 1.—Affected MLG
MLG having part Number (P/N)— | Which have sliding member P/N—
201072011 | 201072301 or 201072305
201072012 | 201072301 or 201072305
201072013 | 201072301 or 201072305
201012014 | 201072301 or 201072305
201072015 | 201072301 or 201072305
201072016 | 201072301 or 201072305

Compliance: Required as indicated, unless accomplished previously.

To prevent fatigue cracking of the sliding member, which could result in possible separation of the MLG from the airplane and consequent reduced controllability of the airplane upon landing and possible injury to passengers, accomplish the following:

Inspection and Replacement if Necessary

(a) Within 1,000 flight cycles or six months after the effective date of this AD, whichever occurs first, perform a magnetic inspection of the sliding members of the MLG for cracking, in accordance with the Accomplishment Instructions of Fokker Service Bulletin SBF100-32-133, dated April 1, 2002. If any crack is found during the inspection, before further flight, replace the sliding members with serviceable parts in accordance with the Accomplishment Instructions of the service bulletin.

Note 1: Fokker Service Bulletin SBF100-32-133, dated April 1, 2002, refers to Messier-Dowty Service Bulletin F100-32-103, dated March 11, 2002, as an additional source of service information.

Parts Installation

(b) As of the effective date of this AD, no person may install a sliding member of the MLG, P/N 201072301 or P/N 201072305, on any airplane, unless it has been inspected in accordance with the Accomplishment Instructions of Fokker Service Bulletin SBF100-32-133, dated April 1, 2002, and found to be serviceable.

Reporting Requirement Difference

(c) Although the service bulletin referenced in this AD specifies to submit certain information to the manufacturer, this AD does not include such a requirement.

Alternative Methods of Compliance

(d) In accordance with 14 CFR 39.19, the Manager, International Branch, ANM-116, FAA, Transport Airplane Directorate, is authorized to approve alternative methods of compliance for this AD.

Incorporation by Reference

(e) The actions shall be done in accordance with Fokker Service Bulletin SBF100-32-133, dated April 1, 2002. This incorporation by reference was approved by the Director of the Federal Register in accordance with 5 U.S.C. 552(a) and 1 CFR part 51. Copies may be obtained from Fokker Services B.V., P.O. Box 231, 2150 AE Nieuw-Vennep, the Netherlands. Copies may be inspected at the FAA, Transport Airplane Directorate, 1601 Lind Avenue, SW., Renton, Washington; or at the Office of the Federal Register, 800 North Capitol Street, NW., suite 700, Washington, DC.

Note 2: The subject of this AD is addressed in Dutch airworthiness directive 2002-060, dated April 29, 2002.

Effective Date

(f) This amendment becomes effective on May 19, 2004.

Issued in Renton, Washington, on April 1, 2004.
Kalene C. Yanamura,
Acting Manager, Transport Airplane Directorate, Aircraft Certification Service.

[FR Doc. 04-8298 Filed 4-13-04; 8:45 am]

BILLING CODE 4910-13-P